DEPARTMENT OF HEALTH AND HUMAN SERVICES

National Institutes of Health

Proposed Collection; 60-Day Comment Request; Cancer Prevention Fellowship Program Fellowship Program and Summer Curriculum Applications (NCI)

SUMMARY: In compliance with the requirement of Section 3506(c)(2)(A) of the Paperwork Reduction Act of 1995, for opportunity for public comment on proposed data collection projects, the National Cancer Institute, the National Institutes of Health (NIH) will publish periodic summaries of proposed projects to be submitted to the Office of Management and Budget (OMB) for review and approval.

Written comments and/or suggestions from the public and affected agencies are invited to address one or more of the following points: (1) Whether the proposed collection of information is necessary for the proper performance of the function of the agency, including whether the information will have practical utility; (2) The accuracy of the agency's estimate of the burden of the proposed collection of information, including the validity of the methodology and assumptions used; (3) The quality, utility, and clarity of the information to be collected; and (4) Minimize the burden of the collection of information on those who are to respond, including the use of appropriate automated, electronic, mechanical, or other technological collection techniques or other forms of information technology.

To Submit Comments and For Further Information: To obtain a copy of the data collection plans and instruments, submit comments in writing, or request more information on the proposed project, contact: Annalisa Gnoleba, Public Health Analyst, Cancer Prevention Fellowship Program, 9609 Medical Center Drive, Room 2E-108 Bethesda, Maryland 20892-9776 or call non-toll-free number (240)-276-7146 or Email your request, including your address to: gnolebaad@mail.nih.gov. Formal requests for additional plans and instruments must be requested in writing.

DATES: Comment Due Date: Comments regarding this information collection are best assured of having their full effect if received within 60 days of the date of this publication.

Proposed Collection: Cancer Prevention Fellowship Program Fellowship Program and Summer Curriculum Applications (NCI), 0925-NEW, EXISTING INFORMATION COLLECTION WITHOUT AN OMB NUMBER, National Cancer Institute (NCI), National Institutes of Health (NIH).

Need and Use of Information Collection: The National Cancer Institute, Division of Cancer Prevention, Cancer Prevention Fellowship Program (CPFP) administers a variety of programs and initiatives to recruit post-doctoral educational level individuals into the Intramural and extramural Research Program to facilitate their development into future scientists. CPFP trains post-doctoral fellows through full time fellowships in preparation for research careers in cancer prevention and control. The proposed information collection involves brief online applications completed by applicants to the full time and the summer curriculum programs. Full-time fellowships include: Non-FTE fellowships for U.S. citizens and permanent residents and fellows that are part of the Irish Consortia. These applications are essential to the administration of these training programs as they enable CPFP to determine the eligibility and quality of potential awardees; to assess their potential as future scientists; to determine where mutual research interests exist; and to make decisions regarding which applicants will be proposed and approved for traineeship awards. In each case, completing the application is voluntary, but in order to receive due consideration, the prospective trainee is encouraged to complete all relevant fields. The information is for internal use to make decisions about prospective fellows and students that could benefit from the CPFP program.

OMB approval is requested for 3 years. There are no costs to respondents other than their time. The total estimated annualized burden hours are 400.

Estimated Annualized Burden Hours
Form | Type of respondent | Estimated number of respondents | Estimated number of responses annually per respondent | Estimated total annual burden hours | Estimated total annual burden hours
CPFP Fellowship Application (Attachment 1) | Student Applicants | 150 | 1 | 1 | 150
Reference Recommendation Letters (Attachment 3) | Contributor | 150 | 1 | 1 | 150
CPFP Summer Curriculum Application (Attachment 2) | Student Applicants | 100 | 1 | 1 | 100
Total |  | 400 | 400 |  | 400

Dated: June 9, 2016.
Karla Bailey,
Project Clearance Liaison, National Cancer Institute, NIH.

[FR Doc. 2016-14335 Filed 6-16-16; 8:45 am]

BILLING CODE 4140-01-P